DEPARTMENT OF ENERGY

National Nuclear Security Administration

Notice of Availability of Final Supplement Analysis of the Complex Transformation Supplemental Programmatic Environmental Impact Statement

AGENCY: National Nuclear Security Administration, Department of Energy.

ACTION: Notice of availability.

SUMMARY: The National Nuclear Security Administration (NNSA), a semi-autonomous agency within the United States (U.S.) Department of Energy (DOE), announces the availability of a Final Supplement Analysis (SA) of the Complex Transformation Supplemental Programmatic Environmental Impact Statement (SPEIS) (DOE/EIS-0236-SA-02). NNSA prepared the Final SA to determine whether, prior to implementing a Modified Distributed Center of Excellence (DCE) Alternative for plutonium operations to enable producing plutonium pits at a rate of no fewer than 80 pits per year by 2030, the existing Complex Transformation SPEIS should be supplemented, a new environmental impact statement be prepared, or that no further National Environmental Policy Act (NEPA) analysis is required. NNSA published the Draft Supplement Analysis of the Complex Transformation Supplemental Programmatic Environmental Impact Statement on June 28, 2019, and announced a 45-day comment period. After considering all comments received, NNSA prepared the Final SA and concluded that no further NEPA documentation at a programmatic level is required.

DATES: This notice will be published on January 8, 2020.

ADDRESSES: The Final SA, which includes an Appendix which contains NNSA's responses to comments received on the Draft SA, is available on the internet at https://www.energy.gov/nnsa/nnsa-nepa-reading-room and https://www.energy.gov/nepa/listings/supplement-analyses-sa.

FOR FURTHER INFORMATION CONTACT: For further information about this Notice, please contact Mr. James R. Sanderson, Office of NEPA Policy and Compliance, U.S. Department of Energy, 1000 Independence Avenue SW, Washington, DC 20585-0119; phone: 202-586-1402; email to: NEPA-SRS@srs.gov.

SUPPLEMENTARY INFORMATION: NNSA prepared the Final SA to determine whether, prior to implementing a Modified Distributed Center of Excellence (DCE) Alternative for plutonium operations to enable producing plutonium pits at a rate of no fewer than 80 pits per year by 2030, the existing Complex Transformation SPEIS should be supplemented, a new environmental impact statement be prepared, or that no further National Environmental Policy Act (NEPA) analysis is required. Implementing a Modified DCE Alternative would enable NNSA to meet federal law and national policy by producing a minimum of 50 pits per year at a repurposed Mixed-Oxide Fuel Fabrication Facility (MFFF) at the Savannah River Site (SRS) and a minimum of 30 pits per year at the Los Alamos National Laboratory (LANL). An additional surge capacity would be available at each site, if needed, to meet the requirements of producing pits at a rate of no fewer than 80 pits per year by 2030 for the nuclear weapons stockpile. The Final SA includes NNSA's determination that no further NEPA documentation at a programmatic level is required. The SA of the Complex Transformation SPEIS is an important element of the overall NEPA strategy related to fulfilling national requirements for pit production. DOE announced this NEPA strategy on June 10, 2019 (84 FR 26849).

National security policies require DOE, through NNSA, to maintain the United States' nuclear weapons stockpile, as well as the nation's core competencies in nuclear weapons. NNSA has the mission to maintain and enhance the safety, security, and effectiveness of the nuclear weapons stockpile. Plutonium pits are critical components of every nuclear weapon, with nearly all current stockpile pits having been produced from 1978-1989. Today, the United States' capability to produce plutonium pits is limited.

Since 2008, the United States has emphasized the need to eventually produce 80 pits per year. Since 2014, federal law has required the Secretary of Energy to produce no less than 30 war reserve plutonium pits by 2026 and thereafter demonstrate the capability to produce war reserve plutonium pits at a rate sufficient to produce 80 pits per year (50 U.S.C. 2538a). On January 27, 2017, the President directed the Department of Defense (DoD) to conduct an updated Nuclear Posture Review (NPR) to ensure a safe, secure, and effective nuclear deterrent that protects the homeland, assures allies, and above all, deters adversaries. The 2018 NPR echoed the need for pit production and confirmed that the United States will pursue initiatives to ensure the necessary capability, capacity, and responsiveness of the nuclear weapons infrastructure and the needed skill of the workforce, including providing the enduring capability and capacity to produce plutonium pits at a rate of no fewer than 80 pits per year by 2030. In 2018, Congress enacted as formal policy of the United States that LANL will produce a minimum of 30 pits per year for the national production mission and will implement surge efforts to exceed 30 pits per year to meet NPR and national policy (Pub. L. 115-232, Section 3120).

To these ends, the DoD Under Secretary of Defense for Acquisition and Sustainment and the NNSA Administrator issued a Joint Statement on May 10, 2018, identifying their recommended alternative to meet the pit production requirement based on the completion of an Analysis of Alternatives, an Engineering Assessment, and a Workforce Analysis. Implementing a Modified DCE Alternative would enable NNSA to continue to transform the nuclear weapons complex (Complex) in a manner that meets federal law and national policy. Under the Modified DCE Alternative, NNSA would repurpose the MFFF at SRS in South Carolina to produce plutonium pits while also maximizing pit production activities at LANL. This two-prong approach—with no fewer than 50 pits per year produced at SRS and no fewer than 30 pits per year at LANL—is the best way to manage the cost, schedule, and risk of such a vital undertaking. In addition to improving the resiliency, flexibility, and redundancy of our Nuclear Security Enterprise by reducing reliance on a single production site, this approach enables the capability to allow for enhanced warhead safety and security to meet DoD and NNSA requirements; deliberate, methodical replacement of older existing plutonium pits with newly manufactured pits as risk mitigation against plutonium aging; and response to changes in deterrent requirements driven by renewed great power competition.

On June 10, 2019, DOE announced the overall NEPA strategy related to fulfilling national requirements for pit production (84 FR 26849). DOE announced that it would prepare at least three documents including this Final SA, a site-specific EIS for the proposal to produce pits at SRS (also announced in that notice), and site-specific documentation for the proposal to authorize expanding pit production beyond 20 pits per year at LANL.

In 2008, NNSA prepared the Complex Transformation SPEIS, which evaluated, among other things, alternatives for producing 10-200 plutonium pits per year at different sites including LANL and SRS. In the Complex Transformation SPEIS ROD, NNSA did not make any new decisions related to pit production capacity and did not foresee an imminent need to produce more than 20 pits per year to meet national security requirements. NNSA now foresees an imminent need to provide the enduring capability and capacity to produce plutonium pits at a rate of no fewer than 80 pits per year by 2030 for the nuclear weapons stockpile. NNSA's preferred alternative is now to implement a Modified DCE Alternative. NNSA has prepared the SA to determine whether, prior to implementing a Modified DCE Alternative, the existing Complex Transformation SPEIS should be supplemented, a new EIS be prepared, or no further NEPA analysis be required.

Although pertinent regulations do not require public review and comment on an SA, NNSA decided, in its discretion, that public comment in this instance would be helpful. NNSA issued the Draft Supplement Analysis of the Complex Transformation Supplemental Programmatic Environmental Impact Statement on June 28, 2019 for a 45-day public review (84 FR 31055). The comments received on the Draft SA generally centered on the following topic areas: (1) Validity of the Draft SA determination; (2) the purpose and need for NNSA's proposal; (3) requests for an extension to the comment period; (4) the two-prong approach to pit production; (5) new information or changed circumstances related to NNSA operations and/or environmental conditions; (6) questions about the technical aspects of the impact analyses; (7) general opposition to, or support for the proposal; and (8) comments about nuclear weapon policies or new weapon designs. NNSA considered all comments during the preparation of the Final SA and determination and has modified the SA as appropriate. NNSA's responses to the comments received on the Draft SA are included in Appendix A to the Final SA.

Signed in Washington, DC, this 19th day of December 2019, for the United States Department of Energy.
Lisa E. Gordon-Hagerty,
Under Secretary for Nuclear Security, Administrator, NNSA.

[FR Doc. 2020-00102 Filed 1-7-20; 8:45 am]

BILLING CODE 6450-01-P